DEPARTMENT OF COMMERCE

National Oceanic and Atmospheric Administration

[I.D. 110503A]

Vessel Monitoring Systems; Approved Mobile Transmitting Units for Use in the Fisheries Off the West Coast States and in the Western Pacific; Pacific Coast Groundfish Fishery; Correction

AGENCY: National Marine Fisheries Service (NMFS), National Oceanic and Atmospheric Administration (NOAA), Commerce.

ACTION: Correction to notification of approval of Vessel Monitoring System units (VMS).

SUMMARY: This document corrects the Federal Register citation in the type-approval notice which was published on November 17, 2003.

DATES: Effective December 2, 2003.

SUPPLEMENTARY INFORMATION:

Background

The notification of approval VMS units was published in the Federal Register on November 17, 2003 (68 FR 64860). The notice contained an incorrect Code of Federal Regulations citation.

Correction

In FR Doc. 03-28663, in the issue of Monday, November 17, 2003 (68 FR 64860), make the following correction:

1. On page 64863, in the first column, under the heading C. INMARSAT-C Communications Providers, the second paragraph is corrected to read as follows:

“The final rule implementing the VMS was published in the Federal Register on November 4, 2003 (68 FR 62374). This rule will not be effective until January 1, 2004. Pursuant to 50 CFR 660.359(d(2), OLE will provide an installation and activation checklist which the vessel owner must follow”.

Authority: 16 U.S.C. 1801, et seq.

Dated: November 25, 2003.
Bruce C. Morehead,
Acting Director, Office of Sustainable Fisheries, National Marine Fisheries Service.

[FR Doc. 03-29941 Filed 12-1-03; 8:45 am]

BILLING CODE 3510-22-S